ARCHITECTURAL AND TRANSPORTATION BARRIERS COMPLIANCE BOARD

Medical Diagnostic Equipment Accessibility Standards

AGENCY: Architectural and Transportation Barriers Compliance Board.

ACTION: Notice of public information meeting.

SUMMARY: Section 4203 of the Patient Protection and Affordable Care Act (Pub. L. 111-148, 124 Stat. L. 119) amended the Rehabilitation Act of 1973 by adding Section 510 to the Rehabilitation Act. Section 510 of the Rehabilitation Act requires the Architectural and Transportation Barriers Compliance Board (Access Board), in consultation with the Food and Drug Administration, to issue accessibility standards for medical diagnostic equipment to ensure that such equipment is accessible to, and usable by, individuals with disabilities to the maximum extent possible. The Access Board will hold a public information meeting to discuss the accessibility needs of individuals with disabilities with respect to medical diagnostic equipment and existing guidance for designing accessible medical diagnostic equipment. The meeting will provide an opportunity for individuals with disabilities, health care providers, and medical diagnostic equipment manufacturers to provide information to assist the Access Board in establishing accessibility standards for medical diagnostic equipment.

DATES: The information meeting will be on Thursday, July 29, 2010 from 9 a.m. until 5 p.m.

ADDRESSES: The information meeting will be held at the Access Board's conference space, 1331 F Street, NW., suite 800, Washington, DC 20004-1111.

FOR FURTHER INFORMATION CONTACT: David Baquis, Office of Technical and Information Services, Architectural and Transportation Barriers Compliance Board, 1331 F Street, NW., suite 1000, Washington, DC 20004-1111. Telephone number: 202-272-0013 (voice); 202-272-0082 (TTY). Electronic mail address: baquis@access-board.gov.

SUPPLEMENTARY INFORMATION: Section 4203 of the Patient Protection and Affordable Care Act (Pub. L. 111-148, 124 Stat. L. 119) amended the Rehabilitation Act of 1973 by adding Section 510 to the Rehabilitation Act. Section 510 of the Rehabilitation Act requires the Architectural and Transportation Barriers Compliance Board (Access Board), in consultation with the Food and Drug Administration, to issue accessibility standards for medical diagnostic equipment to ensure that such equipment is accessible to, and usable by, individuals with disabilities to the maximum extent possible. The standards will address equipment used by health care professionals in, or in conjunction with, physician's offices, clinics, emergency rooms, hospitals, and other medical settings for diagnostic purposes. Examination tables and chairs, mammography equipment, x-ray machines and other radiological equipment, and weight scales are examples of the types of equipment that the accessibility standards will address. Section 510 of the Rehabilitation Act requires the Access Board to issue the standards by March 22, 2012, and to periodically review and update the standards.

The Access Board will hold a public information meeting on Thursday, July 29, 2010 to discuss the accessibility needs of individuals with disabilities with respect to medical diagnostic equipment and existing guidance for designing accessible medical diagnostic equipment. The meeting will provide an opportunity for individuals with disabilities, health care providers, and medical diagnostic equipment manufacturers to provide information to assist the Access Board in establishing accessibility standards for medical diagnostic equipment. The meeting will feature six panels and each panel will be followed by audience discussion. A list of the panel topics and speakers will be posted on the Access Board Web site (http://www.access-board.gov/medical-equipment.htm) before the meeting. You can subscribe to receive updates on the meeting and the development of the accessibility standards for medical diagnostic equipment on the same Web page.

The meeting location is accessible to individuals with disabilities. Sign language interpreters and real-time captioning will be provided. For the comfort of other participants, persons attending the hearing are requested to refrain from using perfume, cologne, and other fragrances.

David M. Capozzi,
Executive Director.

[FR Doc. 2010-15082 Filed 6-21-10; 8:45 am]

BILLING CODE 8150-01-P